DEPARTMENT OF THE INTERIOR

National Park Service

Notice of Inventory Completion: University of Nevada-Reno, Anthropology Research Museum, Reno, NV

AGENCY: National Park Service, Interior.

ACTION: Notice.

Notice is here given in accordance with the Native American Graves Protection and Repatriation Act (NAGPRA), 25 U.S.C. 3003, of the completion of an inventory of human remains and associated funerary objects in the possession of the University of Nevada-Reno, Anthropology Research Museum, Reno, NV. The human remains and associated funerary objects were removed from White Pine and Nye Counties, NV.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by the Nevada State Museum professional staff for the University of Nevada-Reno, Anthropology Research Museum in consultation with representatives of the Battle Mountain Band of the Te-Moak Tribe of Western Shoshone Indians of Nevada; Confederated Tribes of the Goshute Reservation, Nevada and Utah; Death Valley Timbi-Sha Shoshone Band of California; Duckwater Shoshone Tribe of the Duckwater Reservation, Nevada; Elko Band of the Te-Moak Tribe of Western Shoshone Indians of Nevada; Ely Shoshone Tribe of Nevada; Fort McDermitt Paiute and Shoshone Tribes of the Fort McDermitt Indian Reservation, Nevada and Oregon; Paiute-Shoshone Tribe of the Fallon Reservation and Colony, Nevada; Shoshone-Paiute Tribes of the Duck Valley Reservation, Nevada; South Fork Band of the Te-Moak Tribe of Western Shoshone Indians of Nevada; Wells Band of the Te-Moak Tribe of Western Shoshone Indians of Nevada; Winnemucca Indian Colony of Nevada; and Yomba Shoshone Tribe of the Yomba Reservation, Nevada.

In 1966, human remains representing a minimum of one individual were removed from site 26WP104 in White Pine, White Pine County, NV. While conducting a cultural resource management survey in the area, a crew of the Nevada Archaeological Survey excavated skeletal material, which was eroding out of an unstable dune. The human remains and associated cultural material were transported to the Nevada Archeological Survey facilities at the University of Nevada-Reno and cataloged. In 1976, the human remains and associated cultural material were loaned to Sheila Brooks, a physical anthropologist, for study. The assemblage was later accidentally returned to the Nevada State Museum in Carson City, NV. The University of Nevada-Reno, Anthropology Research Museum retrieved the human remains and cultural material from the Nevada State Museum in 1995. No known individual was identified. The 49 associated funerary objects are 8 fragments of cloth and metal, 5 fragments of leather from shoes, 4 50-cent coins, 10 pine nuts, 1 glass button, 1 flaked stone, 4 fragments of metal, 14 percussion caps, and 2 bags of debris.

The coins and shoe fragments associated with the burial date to the 1870s. Based on the dates and geographical location of the burial, the individual is believed to be Native American. Based on continuity of occupation in this location by the Western Shoshone, the individual is believed to be Western Shoshone. The Western Shoshone are believed to have occupied this area of Nevada during the 1800s.

In 1978, human remains representing a minimum of one individual were removed from Nye County, NV. The burial was discovered and excavated by a special investigator affiliated with the Nye County District Attorney's office, and the excavated materials were turned over to the Nevada Archaeological Survey for analysis. In 1983, the human remains and associated objects were sent to the University of Nevada-Reno, Anthropology Research Museum where they were accessioned into the collection. No known individual was identified. The 178 associated funerary objects are 1 projectile point, 163 beads, 3 buttons, 1 ring, 8 bundles of textile, and 2 pieces of rope.

Associated with the burial are historic artifacts that place the burial between 1870 and the 1880s. In 1997, forensic professionals determined that the skull exhibits morphological traits that are associated with Numic- speaking populations, who occupied the region historically. Additionally, in Nye County, NV, there is evidence for continuous occupation by the Western Shoshone. Based on the forensic evidence and dates and geographical location, the individual is believed to be Native American. Based on continuity of occupation in this location by the Western Shoshone, the individual is believed to be Western Shoshone. The Western Shoshone are believed to have occupied this area of Nevada during the 1800s.

Officials of the University of Nevada-Reno, Anthropology Research Museum have determined that, pursuant to 25 U.S.C. 3001 (9-10), the human remains described above represent the physical remains of two individuals of Native American ancestry. Officials of the University of Nevada-Reno, Anthropology Research Museum also have determined that, pursuant to 25 U.S.C. 3001 (3)(A), the 227 objects described above are reasonably believed to have been placed with or near individual human remains at the time of death or later as part of the death rite or ceremony. Lastly, officials of the University of Nevada-Reno, Anthropology Research Museum have determined that, pursuant to 25 U.S.C. 3001 (2), there is a relationship of shared group identity that can be reasonably traced between the Native American human remains and associated funerary objects and the Western Shoshone, today represented by the Battle Mountain Band of the Te-Moak Tribe of Western Shoshone Indians of Nevada; Confederated Tribes of the Goshute Reservation, Nevada and Utah; Death Valley Timbi-Sha Shoshone Band of California; Duckwater Shoshone Tribe of the Duckwater Reservation, Nevada; Elko Band of the Te-Moak Tribe of Western Shoshone Indians of Nevada; Ely Shoshone Tribe of Nevada; Fort McDermitt Paiute and Shoshone Tribes of the Fort McDermitt Indian Reservation, Nevada and Oregon; Paiute-Shoshone Tribe of the Fallon Reservation and Colony, Nevada; Shoshone-Paiute Tribes of the Duck Valley Reservation, Nevada; South Fork Band of the Te-Moak Tribe of Western Shoshone Indians of Nevada; Wells Band of the Te-Moak Tribe of Western Shoshone Indians of Nevada; Winnemucca Indian Colony of Nevada; and Yomba Shoshone Tribe of the Yomba Reservation, Nevada.

Representatives of any other Indian tribe that believes itself to be culturally affiliated with the human remains and associated funerary objects should contact Dr. C.S. Fowler, Anthropology Research Museum, Department of Anthropology, College of Arts and Sciences, Ansari Business Building, Reno, NV 89557, telephone (775) 784-6704, before March 15, 2004. Repatriation of the human remains and associated funerary objects to the Battle Mountain Band of the Te-Moak Tribe of Western Shoshone Indians of Nevada; Confederated Tribes of the Goshute Reservation, Nevada and Utah; Death Valley Timbi-Sha Shoshone Band of California; Duckwater Shoshone Tribe of the Duckwater Reservation, Nevada; Elko Band of the Te-Moak Tribe of Western Shoshone Indians of Nevada; Ely Shoshone Tribe of Nevada; Fort McDermitt Paiute and Shoshone Tribes of the Fort McDermitt Indian Reservation, Nevada and Oregon; Paiute-Shoshone Tribe of the Fallon Reservation and Colony, Nevada; Shoshone-Paiute Tribes of the Duck Valley Reservation, Nevada; South Fork Band of the Te-Moak Tribe of Western Shoshone Indians of Nevada; Wells Band of the Te-Moak Tribe of Western Shoshone Indians of Nevada; Winnemucca Indian Colony of Nevada; and Yomba Shoshone Tribe of the Yomba Reservation, Nevada may proceed after that date if no additional claimants come forward.

The University of Nevada-Reno, Anthropology Research Museum is responsible for notifying the Battle Mountain Band of the Te-Moak Tribe of Western Shoshone Indians of Nevada; Confederated Tribes of the Goshute Reservation, Nevada and Utah; Death Valley Timbi-Sha Shoshone Band of California; Duckwater Shoshone Tribe of the Duckwater Reservation, Nevada; Elko Band of the Te-Moak Tribe of Western Shoshone Indians of Nevada; Ely Shoshone Tribe of Nevada; Fort McDermitt Paiute and Shoshone Tribes of the Fort McDermitt Indian Reservation, Nevada and Oregon; Paiute-Shoshone Tribe of the Fallon Reservation and Colony, Nevada; Shoshone-Paiute Tribes of the Duck Valley Reservation, Nevada; South Fork Band of the Te-Moak Tribe of Western Shoshone Indians of Nevada; Wells Band of the Te-Moak Tribe of Western Shoshone Indians of Nevada; Winnemucca Indian Colony of Nevada; and Yomba Shoshone Tribe of the Yomba Reservation, Nevada that this notice has been published.

Dated: January 12, 2004.
John Robbins,
Assistant Director, Cultural Resources.

[FR Doc. 04-3148 Filed 2-12-04; 8:45 am]

BILLING CODE 4310-50-S